FEDERAL COMMUNICATIONS COMMISSION

47 CFR Part 73

[Docket No. 87-268; DA 07-20]

Revisions to Proposed New DTV Table of Allotments—Tentative Channel Designations To Be Added to the DTV Table of Allotments Proposed in the Seventh Further Notice of Proposed Rule Making

AGENCY: Federal Communications Commission.

ACTION: Proposed rule.

SUMMARY: The Media Bureau announces tentative channel designations for six permittees that attained permittee status during the pendency of the rulemaking proceeding commenced in the Seventh Further Notice of Proposed Rule Making (“Seventh FNPRM”) in MB Docket No. 87-268. These tentative channels designations revise the proposed new Digital Television Table of Allotments released in the Seventh FNPRM.

DATES: Comments are due February 9, 2007 and reply comments are due February 26, 2007.

ADDRESSES: You may submit comments, identified by MB Docket No. 87-268, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Evan Baranoff, Evan.Baranoff@fcc.gov, or Eloise Gore, Eloise.Gore@fcc.gov, of the Media Bureau, Policy Division, (202) 418-2120; Nazifa Sawez, Nazifa.Sawez@fcc.gov, of the Media Bureau, Video Division, (202) 418-1600; or Alan Stillwell, Alan.Stillwell@fcc.gov, of the Office of Engineering and Technology, (202) 418-2470.

SUPPLEMENTARY INFORMATION: The Commission recently released a Seventh Further Notice of Proposed Rule Making (“Seventh FNPRM”), FCC 06-150, released October 20, 2006 in MB Docket No. 87-268 (71 FR 66592, November 15, 2006), finalizing the DTV channel election process and beginning the final stage of the transition of the nation's broadcast television system from analog to digital technology. In the Seventh FNPRM, the Commission proposed a new DTV Table of Allotments providing eligible stations with channels for DTV operations after the DTV transition.

In paragraph 53 of the Seventh FNPRM, the Commission noted that additional pending applications may be granted before an Order finalizing the new DTV Table is adopted. The Commission stated that, to the extent possible, it would accommodate the future new permittees in the proposed new DTV Table and, to provide interested parties with the opportunity to comment, the Media Bureau would issue public notices announcing tentative channel designations (TCDs) for the new permittees that attain permittee status during the pendancy of the Seventh FNRPM rulemaking proceeding. The Commission also directed the Media Bureau to establish separate pleading cycles, if necessary, to give interested parties an opportunity for comment.

The Media Bureau hereby announces TCDs for six permittees that attained permittee status during the pendency of the rulemaking proceeding and, therefore, were not reflected in the proposed new DTV Table released on October 20, 2006. Included is a list of these permittees together with the channel we propose to assign the permittee. This information revises the proposed new DTV Table of Allotments of the Seventh FNPRM. In addition, we have attached the specific technical facilities—effective radiated power (ERP), antenna height above average terrain (HAAT), antenna radiation pattern, and geographic coordinates—at which we propose to allow these stations to operate after the DTV transition (Appendix). The attachment also includes information on service area and population coverage.

Consistent with paragraph 53 of the Seventh FNPRM, the Media Bureau hereby invites public comment on these changes to the proposed new DTV Table. Comments on the proposed changes to the new DTV Table outlined herein must be filed no later than February 9, 2007, and reply comments must be filed no later than February 26, 2007. Specific instructions for filing comments are located at paragraphs 71-76 of the item as published in the Federal Register and at paragraphs 58-63 of the item as released by the Commission and that appears on the Commission Web site: http://hraunfoss.fcc.gov/edocs_public/attachmatch/FCC-06-150A1.doc.

List of Subjects in 47 CFR Part 73

Digital television, Radio.

Federal Communications Commission.
Steven A. Broeckaert,
Deputy Chief, Policy Division, Media Bureau.

Proposed Rule Changes

Accordingly, the Federal Communications Commission further proposes to amend 47 CFR part 73, as proposed at 71 FR 66592, November 15, 2006 as follows:

PART 73—RADIO BROADCAST SERVICES

1. The authority citation for part 73 continues to read as follows:

Authority: 47 U.S.C. 154, 303, 334, 336 and 339.

2. Section 73.622 published at 71 FR 66592, November 15, 2006, is further amended in paragraph (i) by revising the entries set forth below as follows:

§ 73.622 Digital television table of allotments.

* * * * *

(i) * * *

Community | Channel No.
KANSAS
* * * * *
Derby | 46
* * * * *
Topeka | *11, 12, 13, 27, 49
MINNESOTA
* * * * *
Duluth | *8, 10, 17, 27, 33
* * * * *
MISSOURI
* * * * *
Osage Beach | 49
* * * * *
MISSISSIPPI
* * * * *
Jackson | 7, 12, *20, 21, 41, 51
* * * * *
OREGON
* * * * *
Bend | *11, 21, 51
* * * * *

Note: The following Appendix will not appear in the Code of Federal Regulations.

Appendix

Facility ID | State and city | NTSC: Chan | DTV: Chan | DTV: ERP (kW) | DTV: HAAT (m) | DTV: Antenna ID | DTV: Latitude (DDMMSS) | DTV: Longitude (DDDMMSS) | DTV: Area (sq km) | DTV: Population (thousand) | DTV: % Interference received
166332 | KS Derby |  | 46 | 570 | 276 | 72676 | 374801 | 973129 | 23300 | 712 | 0
166546 | KS Topeka | 22 | 12 | 3.2 | 225 | 77171 | 390350 | 954549 | 15822 | 440 | 14
166511 | MN Duluth | 27 | 27 | 50 | 268 | 77172 | 464715 | 920721 | 16190 | 213 | 0.8
166319 | MO Osage Beach | 49 | 49 | 204 | 463 | 77173 | 374910 | 924452 | 27563 | 605 | 0
166512 | MS Jackson | 51 | 51 | 184 | 384 | 77174 | 321426 | 902415 | 24469 | 687 | 0
166534 | OR Bend | 51 | 51 | 84.1 | 206 | 75180 | 440440 | 1211956 | 11378 | 150 | 0

[FR Doc. E7-722 Filed 1-18-07; 8:45 am]

BILLING CODE 6712-01-P